FEDERAL COMMUNICATIONS COMMISSION

[DA 03-3178]

Freeze on High Power Use of the 460-470 MHz Band Extended

AGENCY: Federal Communications Commission.

ACTION: Notice.

SUMMARY: In this document the Federal Communications Commission (FCC) announces that its freeze on the filing of applications for high power operations on 12.5 kHz offset channels in the private land mobile radio 460-470 MHz band, which had been originally set to expire October 16, 2003, will instead be extended. In June 2000, the FCC established the Wireless Medical Telemetry Service (WMTS), and allotted a total of 13.5 megahertz of spectrum on a primary basis in three blocks (608-614 MHz, 395-1400 MHz, and 1427-1429.5). To prevent potential interference to medical telemetry operations the FCC froze applications for high power use of offset channels in the 460-470 MHz band on October 16, 2000 for a period not to exceed three years. Thus, the freeze was set to expire on October 16, 2003. The purpose of the three year freeze was to give hospitals sufficient time to migrate their medical telemetry operations from the 460-470 MHz band to the new WMTS bands.

DATES: For up to 180 days after October 16, 2003, the freeze on the filing of applications for high power operations on 12.5 kHz offset channels in the private land mobile radio 460-470 MHz band, will continue in the “freeze” status.

FOR FURTHER INFORMATION CONTACT: John Kuzma, P.E., john.kuzma@fcc.gov, Public Safety and Private Wireless Division, Wireless Telecommunications Bureau, (202) 418-7479, or TTY (202) 418-7233.

SUPPLEMENTARY INFORMATION: This is a summary of FCC Public Notice, DA 03-3178, released October 15, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http://www.fcc.gov/wtb. Alternative formats are available to persons with disabilities by contacting Brian Millin at (202) 418-7426 or TTY (202) 418-7365 or at bmillin@fcc.gov.

1. On September 23, 2003, the American Hospital Association (AHA) reported that, based on its recent, informal polling of hospitals, there has been virtually no migration of medical telemetry systems to the WMTS frequencies. AHA notes that high power use in the 460-470 MHz band has the potential to interfere with existing medical telemetry systems that have not moved to the WMTS frequencies and has proposed a thirty-month plan for the transition of medical telemetry equipment into the WMTS frequencies.

2. The decision to extend the freeze is procedural in nature and therefore not subject to the notice and comment and effective date requirements of the Administrative Procedure Act. Moreover, there is good cause for not using notice and comment procedures in this case, or making the freeze extension effective 30 days after publication in the Federal Register. The FCC finds that such procedures would be impractical, unnecessary and contrary to the public interest as our compliance would undermine the public policy rationale of the freeze in the first place. The decision to impose a temporary extension of the freeze is not intended to reflect on the ultimate resolution of the use of this band, but is intended to maintain the FCC's regulatory options in the band pending the resolution of such issues described herein and to the continue to protect against harmful interference to medical telemetry operations pending such resolutions. This action is authorized under sections 4(i), 4(j), and 303(r) of the Communications Act of 1934, as amended, 47 U.S.C. §§ 154(i), 154(j), 303(r), and is taken under delegated authority pursuant to §§ 0.131 and 0.331 of the Commission's rules, 47 CFR 0.131, 0.331.

Federal Communications Commission.
Ramona Melson,
Deputy Chief, Public Safety and Private Wireless Division.

[FR Doc. 03-31217 Filed 12-17-03; 8:45 am]

BILLING CODE 6712-01-P